GOVERNMENT ACCOUNTABILITY OFFICE

Change in Medicaid and CHIP Payment and Access Commission Terms

AGENCY: Government Accountability Office (GAO).

ACTION: Notice on terms of appointments.

SUMMARY: In accordance with the Children's Health Insurance Program Reauthorization Act of 2009, the Comptroller General appoints the 17 members of the Medicaid and CHIP Payment and Access Commission (MACPAC). This notice announces the extension of all current members for an additional 4 months.

DATES: Effective Date: May 9, 2016.

ADDRESSES: The Government Accountability Office is at 441 G St. NW., Washington, DC 20548. The Medicaid and CHIP Payment and Access Commission is at 1800 M St. NW., Suite 650 South, Washington, DC 20036.

FOR FURTHER INFORMATION CONTACT: Government Accountability Office: Mary Giffin, (202) 512-3710. Medicaid and CHIP Payment and Access Commission: Anne L. Schwartz, Executive Director, (202) 350-2000.

SUPPLEMENTARY INFORMATION: The Children's Health Insurance Program Reauthorization Act of 2009 (CHIPRA) established MACPAC to report to Congress on Medicaid and CHIP access and payment policies and make recommendations to Congress, the Secretary of Health and Human Services, and the states concerning access to Medicaid and CHIP covered services. CHIPRA gave the Comptroller General of the United States responsibility for appointing MACPAC's 17 members. Appointments are for 3 years, except for members appointed to fill vacancies and for initial members, for which staggered terms were required.

Pursuant to that authority, all initial appointments were effective January 1, 2010, but were staggered so that 5 ended in December 2010, 6 ended in December 2011, and 6 ended in December 2012. The Comptroller General has continued to make appointments effective in January of each year since the initial appointments.

In consultation with the Commission, the Comptroller General has concluded that members' terms should be changed to more closely match the Commission's business cycle. The current January 1 to December 31 terms are out of step with that cycle; the Commission carries out significant planning activities in the summer and finalizes its two reports in late January and April of each year. Terms that begin May 1 and end April 30 would coincide more closely with the Commission's work schedule and thus make Commission operations more efficient and effective.

To better align the terms of service with Commission operations, the terms of all current members are hereby extended for 4 months. The following members' terms will expire on April 30, 2017: Sharon Carte, Andrea Cohen, Herman Gray, Norma Martinez Rogers, and Sara Rosenbaum. The following members' terms will expire on April 30, 2018: Gustavo Cruz, Leanna George, Marsha Gold, Charles Milligan, Sheldon Retchin, and Peter Szilagyi. The following members' terms will expire on April 30, 2019: Brian Burwell, Toby Douglas, Christopher Gorton, Stacey Lampkin, Penny Thompson, and Alan Weil.

Subsequent appointments will be for 3 years.

Gene L. Dodaro,
Comptroller General of the United States.

[FR Doc. 2016-10535 Filed 5-6-16; 8:45 am]

BILLING CODE 1610-02-M